DEPARTMENT OF HEALTH AND HUMAN SERVICES

Food and Drug Administration

[Docket No. 2004N-0245]

Agency Information Collection Activities; Submission for Office of Management and Budget Review; Comment Request; Current Good Manufacturing Practice Regulations for Medicated Feeds

ACTION: Notice.

SUMMARY: The Food and Drug Administration (FDA) is announcing that a proposed collection of information has been submitted to the Office of Management and Budget (OMB) for review and clearance under the Paperwork Reduction Act of 1995.

DATES: Fax written comments on the collection of information by December 2, 2004.

ADDRESSES: OMB is still experiencing significant delays in the regular mail, including first class and express mail, and messenger deliveries are not being accepted. To ensure that comments on the information collection are received, OMB recommends that written comments be faxed to the Office of Information and Regulatory Affairs, OMB, Attn: Fumie Yokota, Desk Officer for FDA, FAX 202-395-6974.

FOR FURTHER INFORMATION CONTACT: Denver Presley, Office of Management Programs (HFA-250), Food and Drug Administration, 5600 Fishers Lane, Rockville, MD 20857, 301-827-1472.

SUPPLEMENTARY INFORMATION: In compliance with 44 U.S.C. 3507, FDA has submitted the following proposed collection of information to OMB for review and clearance.

Current Good Manufacturing Practice Regulations for Medicated Feeds—21 CFR Part 225—(OMB Control Number 0910-0152)—Extension

Under section 501 of the Federal Food, Drug, and Cosmetic Act (the act) (21 U.S.C. 351), FDA has the statutory authority to issue current good manufacturing practice (cGMP) regulations for drugs, including medicated feeds. Medicated feeds are administered to animals for the prevention, cure, mitigation, or treatment of disease or growth promotion and feed efficiency. Statutory requirements for cGMPs have been codified under part 225 (21 CFR part 225). Medicated feeds that are not manufactured in accordance with these regulations are considered adulterated under section 501(a)(2)(B) of the act. Under part 225, a manufacturer is required to establish, maintain, and retain records for a medicated feed, including records to document procedures required during the manufacturing process to assure that proper quality control is maintained. Such records would, for example, contain information concerning receipt and inventory of drug components, batch production, laboratory assay results (i.e. batch and stability testing), labels, and product distribution.

This information is needed so FDA can monitor drug usage and possible misformulation of medicated feeds, to investigate violative drug residues in products from treated animals and investigate product defects when a drug is recalled. In addition, FDA will use the cGMP criteria in part 225 to determine whether or not the systems and procedures used by manufacturers of medicated feeds are adequate to assure that their feeds meet the requirements of the act as to safety and also meet their claimed identity, strength, quality, and purity, as required by section 501(a)(2)(B) of the act.

A license is required when the manufacturer of a medicated feed involves the use of a drug or drugs which FDA has determined requires more control because of the need for a withdrawal period before slaughter or carcinogenic concerns. Conversely, for those medicated feeds for which FDA has determined that the drugs used in their manufacture need less control, a license is not required and the recordkeeping requirements are less demanding.

In the Federal Register of June 14, 2004 (69 FR 33040), FDA published a 60-day notice, soliciting comments on the collection of information requirements for this clearance. In response, no comments were received.

Respondents to this collection of information are commercial feed mills and mixer-feeders.

Table 1.—Estimated Annual Recordkeeping Burden (Registered Licensed Commercial Feed Mills)¹
21 CFR Section | No. of Recordkeepers | Annual Frequency per Recordkeeper | Total Annual Records | Hours per Recordkeeper | Total Hours
225.42(b)(5) through (b)(8) | 1,150 | 260 | 299,000 | 1 | 299,000
225.58(c) and (d) | 1,150 | 45 | 51,750 | .5 | 28,875
225.80(b)(2) | 1,150 | 1,600 | 1,840,000 | .12 | 220,800
225.102(b)(1) | 1,150 | 7,800 | 8,970,000 | .08 | 717,600
225.110(b)(1) and (b)(2) | 1,150 | 7,800 | 8,970,000 | .015 | 134,550
225.115(b)(1) and (b)(2) | 1,150 | 5 | 5,750 | .12 | 690
Total | 1,397,825
¹ There are no capital or operating and maintenance costs associated with this collection of information.

Table 2.—Estimated Annual Recordkeeping Burden (Registered Licensed Mixer-Feeders)¹
21 CFR Section | No. of Recordkeepers | Annual Frequency per Recordkeeping | Total Annual Records | Hours per Recordkeeper | Total Hours
225.42(b)(5) through (b)(8) | 100 | 260 | 26,000 | .15 | 3,900
225.58(c) and (d) | 100 | 36 | 3,600 | .5 | 1,800
225.80(b)(2) | 100 | 48 | 4,800 | .12 | 576
225.102(b)(1) through (b)(5) | 100 | 260 | 26,000 | .4 | 10,400
TOTAL | 16,676
¹ There are no capital costs or operating and maintenance costs associated with this collection of information.

Table 3.—Estimated Annual Recordkeeping Burden (Nonregistered Unlicensed Commercial Feed Mills)¹
21 CFR Section | No. of Recordkeepers | Annual Frequency per Recordkeeping | Total Annual Records | Hours per Recordkeeper | Total Hours
225.142 | 8,000 | 4 | 32,000 | 1 | 32,000
225.158 | 8,000 | 1 | 8,000 | 4 | 32,000
225.180 | 8,000 | 96 | 768,000 | .12 | 92,160
225.202 | 8,000 | 260 | 2,080,000 | .65 | 1,352,000
TOTAL | 1,508,160
¹ There are no capital costs or operating and maintenance costs associated with this collection of information.

Table 4.—Estimated Annual Recordkeeping Burden (Nonregistered Unlicensed Mixer-Feeders)¹
21 CFR Section | No. of Recordkeepers | Annual Frequency per Recordkeeping | Total Annual Records | Hours per Recordkeeper | Total Hours
225.142 | 45,000 | 4 | 180,000 | 1 | 180,000
225.158 | 45,000 | 1 | 45,000 | 4 | 180,000
225.180 | 45,000 | 32 | 1,440,000 | .12 | 172,000
225.202 | 45,000 | 260 | 11,700,000 | .33 | 3,861,000
TOTAL | 4,393,000
¹ There are no capital costs or operating and maintenance costs associated with this collection of information.

The estimate of the times required for record preparation and maintenance is based on agency communications with industry. Other information needed to finally calculate the total burden hours (i.e., number of recordkeepers, number of medicated feeds being manufactured, etc.) is derived from agency records and experience.

Dated: October 27, 2004.
Jeffrey Shuren,
Assistant Commissioner for Policy.

[FR Doc. 04-24448 Filed 11-2-04; 8:45 am]

BILLING CODE 4160-01-S